DEPARTMENT OF THE INTERIOR

Bureau of Land Management

[WY-030-1310-DB]

Notice of Intent To Prepare an Environmental Impact Statement for the Creston/Blue Gap II Natural Gas Project, Carbon and Sweetwater Counties, WY

AGENCY: Bureau of Land Management, Interior.

ACTION: Notice of correction.

SUMMARY: The Bureau of Land Management (BLM) inadvertently published a draft version of a Notice of Intent to Prepare an Environmental Impact Statement for the Creston/Blue Gap II Natural Gas Project, Carbon and Sweetwater Counties, Wyoming in the Federal Register on Thursday, September 8, 2005 (70 FR 53381). The BLM is publishing this correction notice to strike the last sentence. The sentence being removed is “A decision for the Creston/Blue Gap II Natural Gas Project (C/BG2 Project) will not be made nor implemented until after a Record of Decision is issued for the Rawlins RMP revision FEIS”. Any such decision will be in accordance with regulatory requirements.

FOR FURTHER INFORMATION CONTACT: Bureau of Land Management, Eldon Allison, Project Manager, 1300 North Third Street, P.O. Box 2407, Rawlins, Wyoming 82301. Mr. Allison may also be reached by telephone at (307) 328-4291, or by sending an electronic message to: Eldon_Allison@blm.gov.

Deborah Rawhouser,
Group Manager, Planning Assessment and Community Support.

[FR Doc. 05-20084 Filed 10-5-05; 8:45 am]

BILLING CODE 4310-22-P